DEPARTMENT OF DEFENSE

Office of the Secretary

[Docket ID: DOD-2011-OS-0115]

Privacy Act of 1974; System of Records

AGENCY: Office of the Secretary, Department of Defense (DoD).

ACTION: Notice to amend a system of records.

SUMMARY: The Office of the Secretary of Defense is proposing to amend a system of records notice in its existing inventory of records systems subject to the Privacy Act of 1974, (5 U.S.C. 552a), as amended.

DATES: The changes will be effective on November 28, 2011 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974, (5 U.S.C. 552a), as amended, have been published in the Federal Register and are available from the address in FOR FURTHER INFORMATION CONTACT. The specific changes to the records systems being amended are set forth below followed by the notices, as amended, published in their entirety. The proposed amendments are not within the purview of subsection (r) of the Privacy Act of 1974, (5 U.S.C. 552a), as amended, which requires the submission of a new or altered system report.

Dated: October 21, 2011.
Aaron Siegel,
Alternate OSD Federal Register Liaison Officer, Department of Defense.

DWHS P04

System name:

Reduction-In-Force Case Files (February 11, 2011, 76 FR 7825).

Changes:

* * * * *

System location:

Delete entry and replace with “Human Resources Directorate, Personnel Services Division, 4800 Mark Center Drive, Suite 03D08, Alexandria, VA 20350-3200.”

* * * * *

System manager(s) and address:

Delete entry and replace with “Chief of Staffing Division, Human Resources Directorate, Personnel Services Division, 4800 Mark Center Drive, Suite 03D08, Alexandria, VA 20350-3200.”

* * * * *

DWHS P04

System name:

Reduction-In-Force Case Files.

System location:

Human Resources Directorate, Personnel Services Division, 4800 Mark Center Drive, Suite 03D08, Alexandria, VA 20350-3200.

Categories of individuals covered by the system

Civilian employees serviced by the Washington Headquarters Service, Human Resource Office who have been notified of reduction-in-force action.

Categories of records in the system:

Name, home/mailing address, service computation date, veterans preference for Reduction in Force (RIF), performance appraisal ratings, tenure, and subgroup. Documents in the files may include letters from management officials, letters prepared by personnel to the individual regarding type of action required, correspondence from individual concerned and other miscellaneous correspondence concerning the specific action.

Authority for maintenance of the system:

5 U.S.C. 7103, Definitions, application; 10 U.S.C. 1597, Civilian positions: guidelines for reductions; 5 CFR part 351, Chapter 1-Office of Personnel Management, Reductions in Force; and DoD 1400.25-M, chapter 1701, Department of Defense Civilian Personnel Manual.

Purpose(s):

To document the communication of the reduction-in-force process and communicate with affected employees.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To the Office of Personnel Management in instances where an affected employee appeals the decision.

The DoD `Blanket Routine Uses' set forth at the beginning of the Office of the Secretary of Defense (OSD) compilation of systems of records notices apply to this system.

Policies and practices for storing, retrieving, accessing, retaining, and disposing of records in the system:

Storage:

Paper file folders.

Retrievability:

Filed alphabetically by last name.

Safeguards:

Records are maintained in locked file cabinets in a secure area in a building with 24-hour security. Access to records is only by authorized Reduction in Force (RIF) team personnel.

Retention and disposal:

Records are destroyed two years after case is closed.

System manager(s) and address:

Chief of Staffing Division, Human Resources Directorate, Personnel Services Division, 4800 Mark Center Drive, Suite 03D08, Alexandria, VA 20350-3200.

Notification procedure:

Individuals seeking to determine whether information about themselves is contained in this system should address written inquiries to the Chief of Staffing Division, Personnel Services, Human Resources Directorate, Washington Headquarters Service, 1155 Defense Pentagon, Washington, DC 20301-1155.

Record access procedures:

Individuals seeking access to information about themselves contained in this system should address written inquiries to the OSD/Joint Staff, Freedom of Information Act Requester Service Center, Office of Freedom of Information, 1155 Defense Pentagon, Washington, DC 20301-1155.

Requests must include the name and number of this System of Records Notice, the name of the individual, approximate date of reduction in force and be signed.

Contesting record procedures:

The OSD rules for accessing records, for contesting contents and appealing initial agency determinations are published in OSD Administrative Instruction 81; 32 CFR part 311; or may be obtained from the system manager.

Record source categories:

The individual, the Official Personnel File (OPF), and correspondence from appeal examiner in appealed cases.

Exemptions claimed for the system:

None.

[FR Doc. 2011-27729 Filed 10-26-11; 8:45 am]

BILLING CODE 5001-06-P